DEPARTMENT OF ENERGY

Federal Energy Regulatory Commission

18 CFR Part 35

[Docket No. RM01-5-000, Order No. 714]

Electronic Tariff Filings

October 22, 2008.

AGENCY: Federal Energy Regulatory Commission.

ACTION: Final rule; correction.

SUMMARY: The Federal Energy Regulatory Commission published a document in the Federal Register on October 3, 2008 (73 FR 57515), revising Commission rules. That document inadvertently included two non-substantive errors in the instructions for the amendatory language. This document corrects those instructions.

DATES: Effective Date: Effective on November 3, 2008.

FOR FURTHER INFORMATION CONTACT: Andre Goodson, Office of the General Counsel, Federal Energy Regulatory Commission, 888 First Street, NE., Washington, DC 20426, (202) 502-8560, Andre.Goodson@ferc.gov.

SUPPLEMENTARY INFORMATION: In FR Doc. E8-22500 appearing on page 57515 in the Federal Register of Friday, October 3, 2008, the following corrections are made:

§ 35.13 [Corrected]

1. On page 57532, in the second column, in § 35.13, instruction 14g is revised to read as follows: In paragraph (b)(3), the word “schedule” is removed; and the word “mailed” is removed, and the word “posted” is added in its place.

§ 35.14 [Corrected]

2. On page 57532, in the third column, in § 35.14, instruction 15a is revised to read as follows: In paragraph (a), introductory text, the phrase “(fuel clause)” is added after the phrase “Fuel adjustment clauses”, and the phrase “, tariffs or service agreements” is added after the phrase “rate schedules” anywhere it appears in the paragraph's introductory text.

Kimberly D. Bose,
Secretary.

[FR Doc. E8-25611 Filed 10-27-08; 8:45 am]

BILLING CODE 6717-01-P